DEPARTMENT OF AGRICULTURE

Office of the Under Secretary, Research, Education, and Economics

Notice of Appointment to the Advisory Committee on Biotechnology and 21st Century Agriculture

AGENCY: Agricultural Research Service.

ACTION: Notice of appointment to the Advisory Committee on Biotechnology and 21st Century Agriculture.

SUMMARY: The Office of the Secretary of Agriculture announces members appointed to fill 9 vacancies on the Advisory Committee on Biotechnology and 21st Century Agriculture, in accordance with the Federal Advisory Committee Act, 5 U.S.C. App. Those appointed are as follows: Daryl Buss, Dean, School of Veterinary Medicine, University of Wisconsin, Madison, WI; Leon Corzine, Farmer/President, LPC Farms, Assumption, IL; Carole Cramer, Professor, Department of Plant Pathology, Virginia Tech, Blacksburg, VA; Michael Dykes, Vice President, Government Affairs, Monsanto Company, St. Louis, MO; Carol Tucker Foreman, Director, Food Policy Institute, Consumer Federation of America; Randal Giroux, Scientific Lead, Corporate Agricultural Biotechnology, Cargill, Inc., Wayzata, MN; Margaret Mellon, Director, Food and Environment Program, Union of Concerned Scientists, Washington, DC; Ronald Olson, Vice President, Grain Division, General Mills, Minneapolis, MN; and Jerome Slocum, Farmer/President, North Mississippi Grain Company, Coldwater, MS.

DATES: Appointments by the Secretary are for a two-year term, effective February 13, 2004 until February 12, 2006.

FOR FURTHER INFORMATION CONTACT: Michael Schechtman, Designated Federal Official, Office of the Deputy Secretary, USDA, 202B Jamie L. Whitten Federal Building, 12th and Independence Avenue, SW., Washington, DC 20250; Telephone (202) 720-3817; Fax (202) 690-4265; E-mail mschechtman@ars.usda.gov.

SUPPLEMENTARY INFORMATION: The members of the committee cover a broad range of agricultural disciplines and interests. The duties of the committee are solely advisory. The Advisory Committee on Biotechnology and 21st Century Agriculture (AC21) is charged with examining the long-term impacts of biotechnology on the U.S. food and agriculture system and USDA, and providing guidance to USDA on pressing individual issues, identified by the Office of the Secretary, related to the application of biotechnology in agriculture.

The AC21 was first appointed in February 2003 and at the time half of the appointments were for a one-year term and half for a two-year term. Due to the staggered appointments, the terms for 9 of the 18 members expired on February 12, 2004. Members of the AC21 may be reappointed by the Secretary of Agriculture but no member may serve more than six consecutive years. Members serve without pay, but with reimbursement of travel expenses and per diem for attendance at AC21 and subcommittee functions for those committee members who require assistance in order to attend the meetings.

Dated: April 13, 2004.
Rodney J. Brown,
Deputy Under Secretary, Research, Education, and Economics.

[FR Doc. 04-8847 Filed 4-19-04; 8:45 am]

BILLING CODE 3410-09-P